DEPARTMENT OF TRANSPORTATION

Federal Highway Administration

Notice of Final Federal Agency Actions on Highway 199 Expressway Upgrade Project: Josephine County, OR

AGENCY: Federal Highway Administration (FHWA), DOT.

ACTION: Notice of Limitations on Claims for Judicial Review of Actions by FHWA.

SUMMARY: This notice announces actions taken by the FHWA that are final within the meaning of 23 U.S.C. 139(l)(1). The actions relate to a proposed highway project, Highway 199 Expressway Upgrade, in Josephine County, Oregon. Those actions grant approval for the project.

DATES: By this notice, the FHWA is advising the public of final agency actions subject to 23 U.S.C. 139(l)(1). A claim seeking judicial review of the Federal agency actions on the highway project will be barred unless the claim is filed on or before March 16, 2009. If the Federal law that authorizes judicial review of a claim provides a time period of less than 180 days for filing such claim, then that shorter time period still applies.

FOR FURTHER INFORMATION CONTACT: Michelle Eraut, Environmental Program Manager, Federal Highway Administration, 530 Center Street, NE., Suite 100, Salem, Oregon 97301, Telephone: (503) 587-4716. The Environmental Assessment, Supplemental Environmental Assessment, Revised Environmental Assessment, Finding of No Significant Impact (FONSI) and other project records are available upon written request from the Federal Highway Administration at the address shown above. Comments or questions concerning this proposed action and the FONSI should be directed to the FHWA at the address provided above.

SUPPLEMENTARY INFORMATION: Notice is hereby given that the FHWA has taken final agency action subject to 23 U.S.C. 139(l)(1) by issuing a decision for the following highway project in the State of Oregon: Highway 199 Expressway Upgrade. This project will improve U.S. 199 from two lanes in each direction to three lanes in each direction from Tussey Lane to Dowell Road. Redwood Avenue at Allen Creek Road will be realigned to the north to accommodate future traffic volumes and queues. Median barrier and/or raised curb median will be constructed from Dowell Road to Midway Avenue to improve safety and eliminate crossing turn movements. The intersections of U.S. 199 at Midway Avenue and U.S. 199 at Hubbard Lane will be improved to allow U-turns. The existing signals on U.S. 199 at Redwood Avenue and Fairgrounds Road will be removed. A new signal will be installed on U.S. 199 at Hubbard Lane. The actions by the Federal agency and the laws under which such actions were taken are described in the Environmental Assessment, Supplemental Environmental Assessment, Revised Environmental Assessment and FONSI issued on August 6, 2008, and in other documents in the FHWA project records. This notice applies to all Federal agency decisions as of the issuance date of this notice and all laws under which such actions were taken, including but not limited to:

1. General: National Environmental Policy Act (NEPA) [42 U.S.C 4321-4351]; Federal-Aid Highway Act [23 U.S.C. 109 and 23 U.S.C. 128].

2. Air: Clean Air Act [42 U.S.C. 7401-7671(q)].

3. Land: Section 4(f) of the Department of Transportation Act of 1966 [49 U.S.C. 303].

4. Wildlife: Endangered Species Act [16 U.S.C. 1531-1544 and Section 1536]; Fish and Wildlife Coordination Act [16 U.S.C. 661-667 (d)]; Migratory Bird Treaty Act [16 U.S.C. 703-712].

5. Historic and Cultural Resources: Section 106 of the National Historic Preservation Act of 1966, as amended [16 U.S.C. 470(f) et seq.].

6. Social and Economic: Civil Rights Act of 1964 [42 U.S.C. 2000(d)-2000(d)(1)].

7. Executive Orders: E.O. 11990 Protection of Wetlands; E.O. 12898, Federal Actions to Address Environmental Justice in Minority Populations and Low Income Populations; E.O. 13175 Consultation and Coordination with Indian Tribal Governments; E.O. 13112 Invasive Species.

(Catalog of Federal Domestic Assistance Program Number 20.205, Highway Planning and Construction. The regulations implementing Executive Order 12372 regarding intergovernmental consultation on Federal programs and activities apply to this program.)

Authority: 23 U.S.C. 139(l)(1)

Issued On: September 4, 2008.
Michelle Eraut,
Environmental Program Manager,Salem, Oregon.

[FR Doc. E8-21357 Filed 9-15-08; 8:45 am]

BILLING CODE 4910-22-P